DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: July 16, 2015 10 a.m.

PLACE: Room 2C, 888 First Street NE., Washington, DC 20426.

STATUS: OPEN.

MATTERS TO BE CONSIDERED: Agenda.

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1018th—Meeting
[Regular Meeting—July 16, 2015, 10:00 a.m.]
Item No. | Docket No. | Company
ADMINISTRATIVE
A-1 | AD02-7-000 | Customer Matters, Reliability, Security and Market Operations.
A-2 | AD02-1-000 | Agency Business Matters.
ELECTRIC
E-1 | RM15-14-000 | Revised Critical Infrastructure Protection Reliability Standards.
E-2 | ER15-1745-000 | Midcontinent Independent System Operator, Inc.
E-3 | ER12-2170-000 | International Transmission Company.
E-4 | ER12-2170-001 | International Transmission Company.
E-5 | RM15-3-000 | Revisions to Public Utility Filing Requirements.
E-6 | OA08-53-005 | Midwest Independent Transmission System Operator, Inc.
| ER15-133-000 | Midcontinent Independent System Operator, Inc.
E-7 | ER05-1056-008 | Chehalis Power Generating, L.P.
E-8 | ER14-2553-001, ER14-2553-002 | Southwest Power Pool, Inc.
E-9 | ER14-1469-002 | PJM Interconnection, L.L.C.
E-10 | OMITTED
E-11 | OMITTED
E-12 | EC15-138-000 | DTE Electric Company and DTE East China, LLC.
E-13 | EL15-59-000 | Navopache Electric Cooperative, Inc.
E-14 | EL15-57-000 | GenOn Energy Management, LLC v. ISO New England Inc.
MISCELLANEOUS
M-1 | RM13-17-002 | Communication of Operational Information Between Natural Gas Pipelines and Electric Transmission Operators.
GAS
G-1 | RP14-380-001 | National Fuel Gas Supply Corporation and Empire Pipeline, Inc.
G-2 | RM96-1-038 | Standards for Business Practices of Interstate Natural Gas Pipelines.
G-3 | RP12-498-003 | Enable Gas Transmission, LLC formerly CenterPoint.
| RP12-498-004 | Energy Gas Transmission Company, LLC.
G-4 | RP12-816-001, RP12-816-002 | EL Paso Natural Gas Company, L.L.C.
G-5 | RP08-426-017, RP12-806-000 | EL Paso Natural Gas Company, L.L.C.
G-6 | PL15-1-001 | Cost Recovery Mechanisms for Modernization of Natural Gas Facilities.
G-7 | IS12-236-001 | Enbridge Energy, Limited Partnership.
HYDRO
H-1 | P-14245-001 | KC Hydro LLC of New Hampshire.
H-2 | P-2197-107 | Alcoa Power Generating Inc.
CERTIFICATES
C-1 | CP13-541-000 | Floridian Natural Gas Storage Company, LLC.
C-2 | CP15-23-000 | Southern Natural Gas Company, L.L.C.
C-3 | RM12-11-003 | Revisions to Auxiliary Installations, Replacement Facilities, and Siting and Maintenance Regulations.

Issued: July 9, 2015.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-17305 Filed 7-10-15; 11:15 am]

BILLING CODE 6717-01-P